DEPARTMENT OF HEALTH AND HUMAN SERVICES

National Institutes of Health

National Institute of Mental health; Amended Notice of Meeting

Notice is hereby given of a change in the meeting of the National Institute of Mental Health Special Emphasis Panel, March 28, 2002, 12 p.m. to March 28, 2002, 1 p.m., Neuroscience Center, National Institutes of Health, 6001 Executive Blvd., Bethesda, MD, 20892 which was published in the Federal Register on March 29, 2002, 67 FR 15219.

The meeting will be held on April 15, 2002 at 2 p.m. at the Neuroscience Center. The meeting is closed to the public.

Dated: April 23, 2002.
LaVerne Y. Stringfield,
Director, Office of Federal Advisory Committee Policy.

[FR Doc. 02-10667 Filed 4-30-02; 8:45 am]

BILLING CODE 4140-01-M